DEPARTMENT OF THE TREASURY

Treasury Tribal Advisory Committee

AGENCY: Department of the Treasury.

ACTION: Notice.

SUMMARY: The Unfunded Mandates Reform Act of 1995 (UMRA) provides an exemption from the Federal Advisory Committee Act (FACA), for intergovernmental consultations and this now applies to the Treasury Tribal Advisory Committee (TTAC). Therefore, the TTAC will not operate pursuant to the requirements of the FACA so long as this exemption applies.

DATES: This exemption is effective as of March 18, 2024.

FOR FURTHER INFORMATION CONTACT: Fatima Abbas, the Designated Federal Officer (“DFO”) for the TTAC, U.S. Department of the Treasury, 1500 Pennsylvania Ave. NW, Washington, DC 20020; via phone/voice mail at: (202) 622-1067; or via email at: fatima.abbas@treasury.gov. Persons who have difficulty hearing or speaking may access this number via TTY by calling the toll-free Federal Relay Service at (800) 877-8339.

SUPPLEMENTARY INFORMATION: The TTAC was established pursuant to the Tribal General Welfare Exclusion Act of 2014 (Pub. L. 113-168, or TGWEA). The TTAC advises the Secretary on matters related to the taxation of Indians, training, and education for Internal Revenue Service field agents who administer and enforce internal revenue laws with respect to Indian tribes; and training and technical assistance for tribal financial officers. The Unfunded Mandates Reform Act of 1995, 2 U.S.C. 1501 et seq. (UMRA), provides an exemption from FACA, 5 U.S.C. 1001 et seq., for intergovernmental consultations. The exemption applies to meetings between Federal officials and elected officers of State, local, and tribal governments (or their designated employees with authority to act on their behalf) acting in their official capacities; and that relate to the management or implementation of Federal programs established pursuant to public law that explicitly or inherently share intergovernmental responsibilities or administration. The TTAC is comprised of seven members with four being appointed by Congress and three being appointed by the Secretary. Until recently, the TTAC members did not meet the standard to apply the UMRA's exemption from FACA for intergovernmental consultations. Over the past two years, the terms of the appointed committee members have expired, and the Secretary and Congress have reappointed three past members and appointed four new members. All seven of the reappointed or newly appointed TTAC members are elected tribal government officials or tribal government program officers. Therefore, the UMRA's exemption from the FACA for intergovernmental consultations now applies to the TTAC for as long as the members continue to meet its requirements.

Meetings

The TTAC estimates that it will hold three in-person/hybrid meetings annually that will be open to the Tribal public. The Tribal public is defined as Tribal leaders, Tribal citizens, and Tribal and Native organizations. Notice of these Tribal public meetings will be given via the Office of Tribal and Native Affairs (OTNA) newsletter and published on the TTAC's web page. A transcript of the Tribal public meetings will be posted to Treasury's TTAC website.

The TTAC also may decide to meet as frequently as necessary outside of Tribal public meetings. Notice of these meetings will be given to TTAC members via email correspondence. The OTNA will keep internal notes for these meetings.

Marilynn Malerba,
Treasurer of the United States.

[FR Doc. 2024-05720 Filed 3-15-24; 8:45 am]

BILLING CODE 4810-AK-P